INTERNATIONAL TRADE COMMISSION

[Investigation No. 731-TA-1527 (Final)]

Standard Steel Welded Wire Mesh From Mexico

Determination

On the basis of the record ¹ developed in the subject investigation, the United States International Trade Commission (“Commission”) determines, pursuant to the Tariff Act of 1930 (“the Act”), that an industry in the United States is materially injured by reason of imports of standard steel welded wire mesh from Mexico, provided for in subheadings 7314.20.00 and 7314.39.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 86 FR 32891, June 23, 2021.

Background

The Commission, pursuant to section 735(b) of the Act (19 U.S.C. 1673d(b)), instituted antidumping and countervailing duty investigations effective June 30, 2020, following receipt of petitions filed with the Commission and Commerce by Insteel Industries Inc., Mount Airy, North Carolina; Mid-South Wire Company, Nashville, Tennessee; National Wire LLC, Conroe, Texas; Oklahoma Steel & Wire Co., Madill, Oklahoma; and Wire Mesh Corp., Houston, Texas. Effective December 3, 2020, the Commission established a general schedule for the conduct of the final phase of its investigations on standard steel welded wire mesh, following a preliminary determination by Commerce that imports of the subject standard steel welded wire mesh were subsidized by the government of Mexico. Notice of the scheduling of the final phase of the Commission's investigations and of a public hearing to be held in connection therewith was given by posting copies of the notice in the Office of the Secretary, U.S. International Trade Commission, Washington, DC, and by publishing the notice in the Federal Register of December 16, 2020 (85 FR 81487). In light of the restrictions on access to the Commission building due to the COVID-19 pandemic, the Commission conducted its hearing through written testimony and video conference on February 12, 2021. All persons who requested the opportunity were permitted to participate.

The investigation schedules became staggered when Commerce did not align its countervailing duty investigation with its antidumping duty investigation, and reached an earlier final countervailing duty determination. In April 2021, the Commission issued a final affirmative determination in its countervailing duty investigation of standard steel welded wire mesh from Mexico (86 FR 18555, April 9, 2021). Following notification of a final determination by Commerce that imports of standard steel welded wire mesh from Mexico were being sold at LTFV within the meaning of section 735(b) of the Act (19 U.S.C. 1673d(a)), notice of the supplemental scheduling of the final phase of the Commission's antidumping duty investigation was given by posting copies of the notice in the Office of the Secretary, U.S. International Trade Commission, Washington, DC, and by publishing the notice in the Federal Register of July 1, 2021 (86 FR 35124).

The Commission made this determination pursuant to section 735(b) of the Act (19 U.S.C. 1673d(b)). It completed and filed its determination in this investigation on July 30, 2021. The views of the Commission are contained in USITC Publication 5217 (July 2021), entitled Standard Steel Welded Wire Mesh from Mexico: Investigation No. 731-TA-1527 (Final).

By order of the Commission.
Issued: July 30, 2021.
Katherine Hiner,
Supervisory Attorney.

[FR Doc. 2021-16683 Filed 8-4-21; 8:45 am]

BILLING CODE 7020-02-P